DEPARTMENT OF HOMELAND SECURITY

U.S. Citizenship and Immigration Services

Agency Information Collection Activities: Form G-28, Revision of an Approved Information Collection; Comment Request

ACTION: 60-Day Notice of Information Collection Under Review: Form G-28, Notice of Entry of Appearance as Attorney or Accredited Representative.

The Department of Homeland Security, U.S. Citizenship and Immigration Services (USCIS) will be submitting the following information collection request for review and clearance in accordance with the Paperwork Reduction Act of 1995. The information collection is published to obtain comments from the public and affected agencies. Comments are encouraged and will be accepted for sixty days until December 12, 2011.

Written comments and/or suggestions regarding the item(s) contained in this notice, especially regarding the estimated public burden and associated response time, should be directed to the Department of Homeland Security (DHS), USCIS, Chief, Regulatory Products Division, Office of the Executive Secretariat, 20 Massachusetts Avenue, NW., Washington, DC 20529-2020. Comments may also be submitted to DHS via facsimile to 202-272-0997 or via e-mail at USCISFRComment@dhs.gov. When submitting comments by e-mail, please make sure to add OMB Control No. 1615-0105 in the subject box.

Note: The address listed in this notice should only be used to submit comments concerning the revision of this information collection. Please do not submit requests for individual case status inquiries to this address. If you are seeking information about the status of your individual case, please check “My Case Status” online at: https://egov.uscis.gov/cris/Dashboard.do, or call the USCIS National Customer Service Center at 1-800-375-5283 (TTY 1-800-767-1833).

Written comments and suggestions from the public and affected agencies concerning the collection of information should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of This Information Collection

(1) Type of Information Collection: Revision of an existing information collection.

(2) Title of the Form/Collection: Notice of Entry of Appearance as Attorney or Accredited Representative.

(3) Agency form number, if any, and the applicable component of the Department of Homeland Security sponsoring the collection: Form G-28. U.S. Citizenship and Immigration Services (USCIS).

(4) Affected public who will be asked or required to respond, as well as a brief abstract: Primary: Individuals or households. The data collected on Form G-28 is used by DHS to determine eligibility of the individual to appear as a representative.

(5) An estimate of the total number of respondents and the amount of time estimated for an average respondent to respond: 2,479,000 responses at 20 minutes (.333) per response.

(6) An estimate of the total public burden (in hours) associated with the collection: 825,507 annual burden hours. If you need a copy of this information collection instrument, please visit the Web site at: http://www.regulations.gov/.

We may also be contacted at: USCIS, Regulatory Products Division, Office of the Executive Secretariat, 20 Massachusetts Avenue, NW., Washington, DC 20529-2020, Telephone number 202-272-8377.

Dated: October 6, 20111.
Sunday Aigbe,
Chief, Regulatory Products Division, Office of the Executive Secretariat, U.S. Citizenship and Immigration Services, Department of Homeland Security.

[FR Doc. 2011-26363 Filed 10-11-11; 8:45 am]

BILLING CODE 9111-97-P